NEIGHBORHOOD REINVESTMENT CORPORATION

Regular Board of Directors Meeting

Time & Date: 10 a.m., Friday, February 14, 2003.

Place: Neighborhood Reinvestment Corporation, 1325 G Street, NW., Suite 800 Boardroom, Washington, DC 20005.

Status: Open.

Contact Person for More Information: Jeffrey T. Bryson, General Counsel/Secretary, 202-220-2372.

Agenda:

I. Call to order.

II. Approval of minutes: December 11, 2002, regular meeting.

III. Resolution appointing assistant treasurer.

IV. Audit Committee meeting 1/29/03.

V. Budget Committee meeting 1/31/03.

VI. Treasurer's report.

VII. Executive directors quarterly report .

a. National Insurance Task Force.

VIII. Adjournment.

Jeffrey T. Bryson,
General Counsel Secretary.

[FR Doc. 03-3465 Filed 2-6-03; 5:12 pm]

BILLING CODE 7570-01-M